DEPARTMENT OF TRANSPORTATION

Federal Aviation Administration

14 CFR Part 71

[Docket No. FAA-2008-0025; Airspace Docket No. 08-AGL-3]

Establishment of Class E Airspace; La Pointe, WI

AGENCY: Federal Aviation Administration (FAA), DOT.

ACTION: Direct final rule; confirmation of effective date.

SUMMARY: This action confirms the effective date of the direct final rule that establishes Class E airspace at La Pointe, WI, published in the Federal Register February 21, 2008, 73 FR 9452, Docket No. FAA-2008-0025, Airspace Docket No. 08-AGL-3.

DATES: Effective Date: 0901 UTC April 10, 2008. The Director of the Federal Register approves this incorporation by reference action under Title 1, Code of Federal Regulations, part 51, subject to the annual revision of FAA Order 7400.9 and publication of conforming amendments.

FOR FURTHER INFORMATION CONTACT: Gary A. Mallett, Central Service Center, Operations Systems Group, Federal Aviation Administration, Southwest Region, Ft. Worth, TX 76193-0530; telephone (817) 222-4949.

SUPPLEMENTARY INFORMATION:

History

The FAA published a direct final rule with request for comments in the Federal Register February 21, 2008, (73 FR 9452), Docket No. FAA-2008-0025, Airspace Docket No. 08-AGL-3. The FAA uses the direct final rule procedure for non-controversial rules where the FAA believes that there will be no adverse public comment. This direct final rule advised the public that no adverse comments were anticipated, and that unless a written adverse comment, or a written notice of intent to submit an adverse comment, was received within the comment period, the regulation would become effective on April 10, 2008.

No adverse comments were received; thus, this notice confirms that the direct final rule has become effective on this date.

Class E airspace areas extending upward from 700 feet or more above the surface of the earth are published in Paragraph 6005 of FAA Order 7400.9R, signed August 1, 2007, and effective September 15, 2007, which is incorporated by reference in 14 CFR 71.1.

The Class E airspace designations listed in this document will be published subsequently in the Order.

* * * * *

Issued in Fort Worth, TX, on May 20, 2008.
Joseph R. Yadouga,
Acting Manager, Operations Support Group, ATO Central Service Center.

[FR Doc. E8-12026 Filed 6-2-08; 8:45 am]

BILLING CODE 4910-13-M